DEPARTMENT OF ENERGY

Federal Energy Regulatory Commission

[Docket Nos. ER02-2234-010, ER03-139-006, ER03-791-003, ER04-111-002, ER04-785-001]

California Power Exchange Corporation; Notice of Alternative Dispute Resolution Conference

October 5, 2004.

On August 20, 2004, in the “Order Providing Additional Time to Conduct Settlement Discussions,” California Power Exchange Corp., 108 FERC ¶ 61,199 (2004), the Commission granted the parties' request for additional time to conduct settlement discussions. The Commission also noted that if the parties wish to pursue alternative dispute resolution services, they could contact its Dispute Resolution Service.

Subsequent to the submission of the first status reports, the California Power Exchange Corporation contacted the Commission's Dispute Resolution Service to see if a process could be implemented to assist the parties in their negotiations.

On October 8, 2004, the Director of the Commission's Dispute Resolution Service will hold a settlement conference in the above-captioned docket. The settlement conference will begin at 9:30 a.m. (EST) in Room 3M-3, 888 1st St. NE., Washington, DC 20426. To insure that the room is adequately sized, all parties that plan to attend the settlement conference are requested to contact the Director of the Commission's Dispute Resolution Service before noon on Thursday, October 7, 2004. If additional room is needed, the session will be held in Hearing Room 1 at the same location.

All parties in the above-referenced dockets are requested to attend the settlement conference. Any questions regarding this conference, please call Richard Miles, the Director of the Dispute Resolution Service at (202) 502-8702 or richard.miles@ferc.gov.

Magalie R. Salas,
Secretary.

[FR Doc. E4-2582 Filed 10-12-04; 8:45 am]

BILLING CODE 6717-01-P